DEPARTMENT OF LABOR

Employment and Training Administration

[TA-W-54,058]

Winalta USA, Linton, IN; Notice of Termination of Investigation

Pursuant to section 221 of the Trade Act of 1974, as amended, an investigation was initiated on January 21, 2004 in response to a worker petition filed on behalf of workers at Winalta USA, Linton, Indiana.

The Department issued a negative determination applicable to the petitioning group of workers on January 13, 2004 (TA-W-53,942). No new information or change in circumstances is evident which would result in a reversal of the Department's previous determination. Consequently, further investigation would serve no purpose, and the investigation has been terminated.

Signed at Washington, DC this 27th day of January, 2004.
Richard Church,
Certifying Officer, Division of Trade Adjustment Assistance.

[FR Doc. 04-3564 Filed 2-18-04; 8:45 am]

BILLING CODE 4510-30-P